Proclamation 9793 of September 28, 2018

National Disability Employment Awareness Month, 2018

By the President of the United States of America

A Proclamation

During National Disability Employment Awareness Month, we recognize the achievements of Americans with disabilities whose contributions in the workforce help ensure the strength of our Nation. We also renew our commitment to creating an environment of opportunity for all Americans and educating people about disability employment issues.

The American economy is roaring back as a result of my Administration's economic policies, including the enactment of the Tax Cuts and Jobs Act and the elimination of unnecessary and burdensome regulations. More than 4 million jobs have been created since my election. On average, in 2018, more than 5.6 million men and women with disabilities have been employed each month, which is on pace to be the highest annual level ever recorded. Earlier this year, the unemployment rate for Americans with disabilities reached the lowest rate ever recorded. These are positive indicators, and ones that continue to highlight the incredible value that individuals with disabilities offer to the workforce.

To accelerate this momentum and build on my promise to America's workers, I signed an Executive Order establishing the National Council for the American Worker. This initiative will develop a national strategy that guarantees American workers have the ability to learn the skills needed to secure sustained employment, especially in high-demand industries, such as medicine, science, and technology. This national strategy will outline policies to provide all Americans, including Americans with disabilities, more opportunities to work, earn competitive wages, and connect with others worldwide.

My Administration has also taken action to address disability employment issues, which includes encouraging those with disabilities to engage in the workforce, providing greater opportunities for their involvement, and preventing workplace injuries from occurring. For example, in September, the Department of Labor awarded nearly $20 million in grants to eight States for Retaining Employment and Talent after Injury/Illness Network Demonstration (RETAIN) projects. These projects develop innovative strategies that enable Americans who are injured or ill to remain in or return to the workforce. Each year, more than 3.5 million nonfatal work-related injuries and illnesses occur at a cost of $170 billion to the economy. When an illness or injury forces workers to discontinue employment, the loss can be devastating to both the workers and their families. RETAIN projects work because timely, coordinated, and effective support can help hundreds of thousands of workers who have been injured or fallen ill remain in their jobs.

In addition to testing innovative policy solutions, this year, the Department of Labor helped 44 States adopt disability employment policies to meet their workforce needs, and the Department of Labor's Job Accommodation Network provided guidance on accommodations for workplace success to nearly 50,000 employers and to individuals with disabilities. To expand apprenticeship opportunities, the Department of Labor has created inclusive apprenticeship tools for job creators and more than 35,000 employers receive help with recruiting and retaining workers with disabilities through the Employer Assistance and Resource Network on Disability Inclusion.

My Administration will continue these efforts, and renews its commitment to creating more opportunities for Americans with disabilities who want to provide for themselves and their families and contribute to their communities by participating in the workforce. My Administration also reaffirms its support for all the employers who hire Americans with disabilities, providing opportunities for success. It is important that all our Nation's job seekers and creators are both empowered and motivated to partake in our booming economy, and apply their unique talents and skills to the growing workforce.

The Congress, by Joint Resolution approved August 11, 1945, as amended (36 U.S.C. 121), has designated October of each year as “National Disability Employment Awareness Month.”

NOW, THEREFORE, I, DONALD J. TRUMP, President of the United States of America, do hereby proclaim October 2018 as National Disability Employment Awareness Month. I call upon government and labor leaders, employers, and the great people of the United States to recognize the month with appropriate programs, ceremonies, and activities across our land.

IN WITNESS WHEREOF, I have hereunto set my hand this twenty-eighth day of September, in the year of our Lord two thousand eighteen, and of the Independence of the United States of America the two hundred and forty-third.

[FR Doc. 2018-21813

Filed 10-3-18; 11:15 am]

Billing code 3295-F9-P